DEPARTMENT OF STATE

[Public Notice: 10125]

U.S. Department of State Advisory Committee on Private International Law (ACPIL): Public Meeting on Arbitration and Conciliation

The Office of the Assistant Legal Adviser for Private International Law, Department of State, gives notice of a public meeting to discuss possible topics for future work related to arbitration or conciliation in the United Nations Commission on International Trade Law (UNCITRAL). The public meeting will take place on Tuesday, October 17, 2017 from 10:00 a.m. until 12:30 p.m. EDT. This is not a meeting of the full Advisory Committee.

UNCITRAL's Working Group II (Dispute Settlement) is currently working on the development of a convention and model legislative provisions on conciliated settlements that resolve international, commercial disputes. Once this negotiation is completed, however, it is unclear whether UNCITRAL should pursue additional work in the area of dispute settlement, and if so, what the new project should be. One topic that has been proposed by the International Academy of Construction Lawyers relates to the use of adjudication procedures in construction disputes. The purpose of the public meeting is to obtain the views of concerned stakeholders on (1) whether the Working Group should address construction contract adjudication, and (2) what, if any, other possible topics related to arbitration, conciliation, or other forms of dispute settlement merit attention by the Working Group.

Time and Place: The meeting will take place on October 17, 2017, from 10:00 a.m. until 12:30 p.m. via a teleconference. Those who cannot participate but wish to comment are welcome to do so by phone or email to Tim Schnabel at SchnabelTR@state.gov or 202-776-8781.

Public Participation: This meeting is open to the public. If you would like to participate by telephone, please email pil@state.gov to obtain the call-in number and other information.

Timothy R. Schnabel,
Attorney-Adviser, Office of Private International Law, Office of Legal Adviser, Department of State.

[FR Doc. 2017-19357 Filed 9-12-17; 8:45 am]

BILLING CODE 4710-08-P